DEPARTMENT OF AGRICULTURE

Natural Resources Conservation Service

Notice of Availability of Record of Decisions for Etowah River, Georgia; Pocasset River, Rhode Island; Odessa Subarea Special Study Project in Washington; and Cart Creek Site 1 of the North Branch Park River Watershed in North Dakota

AGENCY: Natural Resources Conservation Service, USDA.

ACTION: Notice of availability; record of decision.

SUMMARY: Natural Resources Conservation Service (NRCS), an agency in the U.S. Department of Agriculture, has prepared a Notice of Availability for Record of Decisions (ROD) for Environmental Impact Statements (EIS) for Etowah River Watershed Dam No.13-A (Russel Creek Reservoir Multipurpose Project) in Dawson County, Georgia; Pocasset River, Rhode Island; Odessa Subarea Special Study Project in Adams, Franklin, Grant, and Lincoln counties, Washington; and Cart Creek Site 1 of the North Branch Park River Watershed in North Dakota.

ADDRESSES:

• You may request a copy of the Etowah River ROD from: Sharon Swagger, Assistant State Conservationist—Easements and Water Resources, 355 E Hancock Ave., Athens, GA 30601;

• You may also download a copy of the Etowah River ROD from: https://www.etowahwaterga.gov/about/russell-creek-reservoir/;

• You may request a copy of the Pocasset River ROD from: Darrell Moore, NRCS Rhode Island State Conservation Engineer, 60 Quaker Lane, Suite 40, Warwick, RI 02886;

• You may also download a copy of the Pocasset River ROD from: https://www.nrcs.usda.gov/sites/default/files/2024-09/RI_PocassetEIS_ROD_508.pdf;

• You may request a copy of the Odessa Subarea Special Study Project ROD: Jules Riley, USDA/NRCS, 11707 E Sprague Ave., Suite 301, Spokane Valley, WA 99206;

• You may also download complete text of the Odessa Subarea Special Study Project ROD and the FEIS from the project website at https://www.ogwrp-programs.org/watershed-plan; and

• You may request a copy of the Cart Creek Site 1 of the North Branch Park River Watershed in North Dakota ROD from: Dan Hovland, USDA-ND NRCS, 220 E Rosser Avenue, Bismarck, ND 59502-1458;

• You may also view a copy of the Cart Creek Site 1 of the North Branch Park River Watershed in North Dakota ROD from: https://www.nrcs.usda.gov/conservation-basics/conservation-by-state/north-dakota/north-branch-park-river-watershed.

FOR FURTHER INFORMATION CONTACT: For Etowah River, Georgia, contact Sharon Swagger; Assistant State Conservationist, at telephone 706-546-2272; or email: sharon.swagger@usda.gov. For Pocasset River, contact Darrell Moore; telephone: (401) 822-8812; or email: Darrell.Moore@usda.gov. For the Odessa Subarea Special Study Project in Washington, contact Jules Riley; telephone: (509) 507-0178; email: jules.riley@usda.gov. For the Cart Creek Site 1 of the North Branch Park River Watershed in North Dakota, contact Christi Fisher, telephone: (701) 530-2091 email: christi.fisher@usda.gov.

SUPPLEMENTARY INFORMATION: Through this document, NRCS announces the availability of EIS RODs for:

• Etowah River Watershed Dam No.13-A (Russel Creek Reservoir Multipurpose Project) in Dawson County, Georgia;

• Pocasset River Flood Damage Reduction Project in Rhode Island;

• Odessa Subarea Special Study Project in Adams, Franklin, Grant, and Lincoln counties, Washington; and

• Cart Creek Site 1 of the North Branch Park River Watershed in North Dakota.

Etowah River Watershed Dam No.13-A

NRCS completed the EIS titled “Etowah River Watershed Dam No.13-A (formerly known as Russell Creek Reservoir Multipurpose Project)” in partnership with Etowah Water & Sewer Authority, in Dawson County, Georgia. The NRCS NOI EIS was published in the Federal Register on April 8, 2022 (87 FR 20811-20813).

The Final EIS (FEIS #20230100) was made available for review through Environmental Protection Agency (EPA) Central Data Exchange (CDE) system as announced in the Federal Register on August 11, 2023 (88 FR 54612-54613).

Pocasset River Flood Damage Reduction Project

NRCS published the notice of intent to prepare the EIS titled “Pocasset River Flood Damage Reduction Project” in the Federal Register on July 10, 2009 (74 FR 33201-33202).

The Revised Final EIS (FEIS #20240084) was made available for review through EPA CDE system as announced in the Federal Register on May 24, 2024 (89 FR 45883).

Odessa Subarea Special Study Project in Adams, Franklin, Grant, and Lincoln Counties, Washington

NRCS completed the EIS titled “Odessa Subarea Special Study” in partnership with U.S. Bureau of Reclamation and the Washington State Department of Ecology, Adams, Franklin, Grant, and Lincoln Counties, Washington.

The Final EIS (FEIS #20230153) was made available for review through EPA CDE system as announced in the Federal Register on November 17, 2023 (88 FR 80300).

Cart Creek Site 1 of the North Branch Park River Watershed in Pembina County, North Dakota

NRCS has prepared a ROD for the EIS titled “Cart Creek Site 1 of the North Branch Park River Watershed” in Pembina County, North Dakota. NRCS published the notice of intent to prepare the EIS in the Federal Register on December 14, 2022 (87 FR 76453-76456).

The Final EIS (FEIS #20240125) was made available for review through EPA CDE system as announced in the Federal Register on July 19, 2024 (89 FR 58733).

Authority

NRCS involvement is through the Watershed Protection and Flood Prevention Act (Pub. L. 83-566, 16 U.S.C. 1001-1008).

Federal Assistance Programs

The title and number of the Federal Assistance Program as found in the Assistance Listing ¹ to which this document applies is 10.904, Watershed Protection and Flood Prevention.

¹ See https://sam.gov/content/assistance-listings.

Executive Order 12372

Executive Order 12372, “Intergovernmental Review of Federal Programs,” requires consultation with State and local officials that would be directly affected by proposed Federal financial assistance. The objectives of the Executive order are to foster an intergovernmental partnership and a strengthened federalism, by relying on State and local processes for State and local government coordination and review of proposed Federal financial assistance and direct Federal development. This project is subject to the provisions of Executive Order 12372, which requires intergovernmental consultation with State and local officials.

Environmental Review

Each of the RODs summarizes the findings of the Plan-EIS; these are not programmatic. Each ROD provides the basis for the NRCS decision. NRCS is the lead Federal agency responsible for the content and quality of the Plan-EIS for the purposes of National Environmental Policy Act (NEPA), Principles, Requirements, and Guidelines (PR&G) for Federal Investments in Water Resources and National Historic Preservation Act (NHPA) compliance.

Each ROD is issued as specified by the NEPA process (42 U.S.C. 4321-4347) which follows the NRCS NEPA regulations in 7 CFR part 650, subpart A, and 7 CFR part 622. The NRCS NEPA regulations adopt the Council of Environmental Quality (CEQ) NEPA regulations (40 CFR parts 1500-1508) in total.

USDA Non-Discrimination Policy

In accordance with Federal civil rights law and USDA civil rights regulations and policies, USDA, its agencies, offices, and employees, and institutions participating in or administering USDA programs are prohibited from discriminating based on race, color, national origin, religion, sex, gender identity (including gender expression), sexual orientation, disability, age, marital status, family or parental status, income derived from a public assistance program, political beliefs, or reprisal or retaliation for prior civil rights activity, in any program or activity conducted or funded by USDA (not all bases apply to all programs). Remedies and complaint filing deadlines vary by program or incident.

Individuals who require alternative means of communication for program information (for example, braille, large print, audiotape, American Sign Language, etc.) should contact the responsible Agency or USDA TARGET Center at (202) 720-2600 (voice and telephone) or dial 711 for Telecommunications Relay Service (both voice and text telephone users can initiate this call from any phone). Additionally, program information may be made available in languages other than English.

To file a program discrimination complaint, complete the USDA Program Discrimination Complaint Form, AD-3027, found online at: https://www.usda.gov/oascr/how-to-file-a-program-discrimination-complaint and at any USDA office or write a letter addressed to USDA and provide in the letter all the information requested in the form. To request a copy of the complaint form, call (866) 632-9992. Submit your completed form or letter to USDA by: (1) mail to: U.S. Department of Agriculture, Office of the Assistant Secretary for Civil Rights, 1400 Independence Avenue SW, Washington, DC 20250-9410; (2) Fax: (202 690-7442; or (3) email: program.intake@usda.gov.

USDA is an equal opportunity provider, employer, and lender.

Terrance Rudolph,
Georgia State Conservationist.
R. Phou Vongkhamdy,
Rhode Island State Conservationist.
Roylene Comes-At-Night,
Washington State Conservationist.
Daniel Hovland,
North Dakota State Conservationist, Natural Resources Conservation Service.

[FR Doc. 2024-25582 Filed 11-1-24; 8:45 am]

BILLING CODE 3410-16-P